DEPARTMENT OF THE INTERIOR

Bureau of Land Management

[86% to CO-956-1420-BJ-0000-241A; 14% to CO-956-9820-BJ-CO01-241A]

Colorado: Filing of Plats of Survey

January 14, 2002.

The plats of survey of the following described land will be officially filed in the Colorado State Office, Bureau of Land Management, Lakewood, Colorado, effective 10:00 am., January 14, 2002. All inquiries should be sent to the Colorado State Office, Bureau of Land Management, 2850 Youngfield Street, Lakewood, Colorado 80215-7093.

The plat representing the entire record of the dependent resurvey of M.S. No. 2318, Champion Lode, Suspended T 43 N., R. 6 W., New Mexico Principal Meridian, Group 1238, Colorado, was accepted October 24, 2001.

The plat representing the entire record of the dependent resurvey of certain mineral claims, Suspended T. 44 N., R. 5 W., New Mexico Principal Meridian, Group 1238, Colorado, was accepted October 24, 2001.

The plat representing the entire record of the dependent resurvey of certain mineral claims. T44 N., R. 4 W., New Mexico Principal Meridian, Group 1238, Colorado, was accepted October 24, 2001.

The plat (in two sheets) representing the entire record of the corrective dependent resurvey and dependent resurvey of a portion of the subdivisional lines, Mineral Survey No. 228, Hayden Placer, and Lot 78, in section 31, T. 11 S., R. 79 W., Sixth Principal Meridian, Group 724, Colorado, was accepted October 24, 2001.

The plat representing the limited corrective dependent resurvey of a portion of the Georgetown Townsite, T. 4 S., R. 74 W., Sixth Principal Meridian, Group 696, Colorado, was accepted October 31, 2001.

The plat representing the dependent resurvey of portions of the Eleventh Correction Line North, First Guide Meridian West, subdivisional lines, and the subdivision of section 31, T. 45 N., R. 8 W., New Mexico Principal Meridian, Group 1343, Colorado, was accepted December 5, 2001.

The plat representing the dependent resurvey of a portion of the subdivisional lines, and the subdivision of section 16, T. 1 N., R. 80 W., Sixth Principal Meridian, Group 1287, Colorado, was accepted December 20, 2001.

The supplemental plat creating new lots in sections 4, 5, 8, 9, and 17, in T. 11 N., R. 79 W., Sixth Principal Meridian, Colorado, is based upon the memo dated May 12, 1998, canceling certain lodes of Mineral Survey No. 20796, and plats approved April 18, 1941, April 21, 1953, July 26, 1982 and January 14, 1983, was accepted November 15, 2001.

The supplemental plat creating new lots 168, 169, and 170, from original lot 164 in the SE¼SE¼ of section 6, T. 1 N., R. 72 W., Sixth Principal Meridian, Colorado, is based upon the Dependent Resurvey and Survey Plat approved January 31, 1996, and the Supplemental Plat approved March 8, 1999, was accepted December 3, 2001.

The supplemental plat creating new lots 171 through 175, and depicting certain private land tracts in the SW¼SW¼ and the W½SE¼SW¼ section 6, is based upon the Dependent Resurvey and Survey plats (sheets 9 and 10 of 12) approved January 31, 1996, the Supplemental plat of the SE¼SE¼ of section 6, approved December 3, 2001 and the official records of mineral claims M.S. 13766, M.S. 17695 and M.S. 20071, was accepted December 3, 2001.

The supplemental plat creating new lots 176 and 177, from original lot 136 in the N½NW¼SW¼ of section 6, is based upon the Dependent Resurvey and Survey plats (sheets 1 and 8 of 12) approved January 31, 1996, the Supplemental plat of the SW¼SW¼ and the W½SE¼SW¼ section 6, approved December 3, 2001, was accepted December 3, 2001.

These surveys and supplemental plats were requested by the Bureau of Land Management for administrative purposes.

The plat representing the entire record of the dependent resurvey and survey to create an irregular lot under the Small Tracts Act, in section 28, T. 6 N., T. 71 W., Sixth Principal Meridian, Group 632, Colorado, was accepted October 3, 2001.

The plat representing the dependent resurvey of the North Boundary, and portions of M.S. No. 15969 A and B, in sections 2 and 3, T. 5 S., R. 75 W., Sixth Principal Meridian, Group 1186, Colorado, was accepted December 20, 2001.

These surveys were requested by the Forest Service for administrative purposes.

Darryl A. Wilson,
Chief Cadastral Surveyor for Colorado.

[FR Doc. 02-3543 Filed 2-12-02; 8:45 am]

BILLING CODE 4310-JB-P